NUCLEAR REGULATORY COMMISSION

[Docket Nos. 50-361 and 50-362]

Southern California Edison Co.; San Onofre Nuclear Generating Station, Unit Nos. 2 and 3; Correction to Environmental Assessment and Finding of No Significant Impact

In notice document 01-15370 beginning on page 32964, in the issue of Tuesday, June 19, 2001, make the following corrections:

In the second full paragraph, in the third column, on page 32964, in line seven, the number “3448 MWt,” should be corrected to read “3438 MWt.”

In the fourth full paragraph, in the third column, on page 32964, in line three, the number “3448 MWt,” should be corrected to read “3438 MWt.”

Dated at Rockville, Maryland, this 19th day of June 2001.
For the Nuclear Regulatory Commission.
Joseph E. Donoghue,
Senior Project Manager, Section 2, Project Directorate IV, Division of Licensing Project Management, Office of Nuclear Reactor Regulation.

[FR Doc. 01-15968 Filed 6-25-01; 8:45 am]

BILLING CODE 7590-01-P